DEPARTMENT OF DEFENSE

Office of the Secretary

Open Meeting of the National Defense University Visitors (BOV)

AGENCY: National Defense University, DoD.

ACTION: Notice; open meeting of the National Defense University Visitors (BOV).

SUMMARY: The President, National Defense University has scheduled a meeting of the Board of Visitors. Request subject notice be published in the Federal Register. The National Defense University Board of Visitors is a Federal Advisory Board. The Board meets twice a year in proceedings that are open to the Public.

DATES: The meeting will be held on September 12-13, 2005 from 11:00 to 17:00 on the 12th and continuing on the 13th from 8:30 to 13:30.

Location: The Board of Visitors meeting will be held at Building 62, Marshall Hall, Room 155, National Defense University, 300 5th Avenue, Fort McNair, Washington, DC 20319-5066.

FOR FURTHER INFORMATION CONTACT: The point of contact for this notice of an open meeting is Ms. Tonya Barbee at (202) 685-3539, Fax (202) 685-3935 or barbeet@ndu.edu.

SUPPLEMENTARY INFORMATION: The future agenda will include discussions on Defense transformation, faculty development, facilities, information technology, curriculum development, post 9/11 initiatives as well as other operational issues and areas of interest affecting the day-to-day operations of the national Defense University and its components. The meeting is open to the public; limited space made available for observers will be allocated on a first come, first served basis.

Dated: May 26, 2005.
Jeannette Owings-Ballard,
OSD Federal Liaison Officer, Department of Defense.

[FR Doc. 05-10871 Filed 5-31-05; 8:45 am]

BILLING CODE 5001-06-P